DEPARTMENT OF DEFENSE

Department of the Navy

[Docket ID USN-2008-0062]

Privacy Act of 1974; System of Records

AGENCY: U.S. Marine Corps, DoD.

ACTION: Notice to add a system of records.

SUMMARY: The U.S. Marine Corps is proposing to add a new system of records notice to its existing inventory of records systems subject to the Privacy Act of 1974, (5 U.S.C. 552a), as amended.

DATES: This proposed action will be effective without further notice on January 2, 2009 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The proposed system report, as required by 5 U.S.C. 552a(r), of the Privacy Act of 1974, as amended, was submitted on November 19, 2008, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: November 25, 2008.
Morgan E. Frazier,
Alternate OSD Federal Register Liaison Officer, Department of Defense.

M01040-1

System Name:

Marine Corps Total Force Retention System Records.

System location:

James Wesley Marsh Center, 3280 Russell Road, Manpower Management Enlisted Assignment Branch, Quantico, VA 22134-5103.

Categories of individuals covered by the system:

Active duty and reserve Marines.

Categories of records in the system:

Records contain information required to validate reenlistment eligibility and to process the Reenlistment Extension Lateral Move request. Individual's name, Social Security Number (SSN), date of birth, race, gender, home of record, marital status, number of dependents, citizenship, unit company code, unit platoon code, reserve component code, reserve unit join date, military occupational specialty (MOS), and grade.

Authority for maintenance of the system:

5 U.S.C. 301, Departmental Regulations; 10 U.S.C. 5042, Headquarters, Marine Corps: General duties; and E.O. 9397 (SSN).

Purpose(s):

The Total Force Retention System supports Marine Corp decisions on reenlistments, extensions, relevant bonuses, and other types of career-related requests. In addition, as a management tool, it will provide supervisors with a standardized tool set for performing daily functions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of other departments and agencies of the Executive Branch of government, upon request, in the performance of their official duties related to Marine Corps retention and other types of career-related requests.

The ‘DoD Blanket Routine Uses’ that appear at the beginning of the DoD compilation of systems of records notices also apply to this system.

Policies and practices for storing, retrieving, accessing, retaining, and disposing of records in the system:

Storage:

Electronic storage media.

Retrievability:

Individual's name, Social Security Number (SSN) and/or military occupational specialty (MOS).

Safeguards:

Records are protected by procedures which include system firewall protection based on need to know, and roles and permission which are required to prevent the unintentional disclosure of sensitive information to unauthorized individuals. These procedures also include the use of the Common Access Card (CAC), and approval authority for access.

Retention and disposal:

Disposition pending (treat records as permanent until the National Archives and Records Administration has approved the retention and disposition schedule)

System Manager and Address:

HQMC, Director, Manpower Management Enlisted Assignment Branch, 3280 Russell Rd., Quantico, VA 22134-5103.

Notification Procedures:

Individuals seeking to determine whether information about themselves is contained in this system should address written and signed inquiries to the Director, Manpower Management Enlisted Assignment Branch, 3280 Russell Rd., Quantico, VA 22134-5103.

Requests should contain individual's name, Social Security Number (SSN), complete mailing address, and must be signed.

Record Access Procedures:

Individuals seeking access to information about themselves contained in this system should address written inquiries to: Director, Manpower Management Enlisted Assignment Branch (MMEA), 3280 Russell Rd., Quantico, VA 22134-5103.

Requests should contain individual's name, Social Security Number (SSN), complete mailing address, and must be signed.

Contesting record procedures:

The U.S. Marine Corps rules for contesting contents and appealing initial agency determinations are published in Secretary of the Navy Instruction 5211.5; Marine Corps Order P5211.2; 32 CFR part 701; or may be obtained from the system manager.

Record source categories:

Individual and Career Retention Specialists.

Exemptions claimed for the system:

None.

[FR Doc. E8-28605 Filed 12-1-08; 8:45 am]

BILLING CODE 5001-06-P